DEPARTMENT OF ENERGY

State Energy Advisory Board (STEAB)

AGENCY: Energy Efficiency and Renewable Energy, Department of Energy.

ACTION: Notice of open live board meeting.

SUMMARY: This notice announces a Board meeting of the State Energy Advisory Board (STEAB). The Federal Advisory Committee Act (Pub. L. 92-463; 86 Stat. 770) requires that public notice of these meetings be announced in the Federal Register.

DATES: August 20, 2014, 9:00 a.m. to 5:00 p.m., August 21, 2014, 9:00 a.m. to 3:30 p.m.

ADDRESSES: Washington Marriott Georgetown, 1221 22nd Street NW., Washington, DC 20037.

FOR FURTHER INFORMATION CONTACT: Julie Hughes, STEAB Designated Federal Officer, U.S. Department of Energy, Office of Energy Efficiency and Renewable Energy, 1000 Independence Ave. SW., Washington, DC 20585, 202-320-9703, Julie.Hughes@ee.doe.gov.

SUPPLEMENTARY INFORMATION:

Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Review deliverables and accomplishments from the STEAB Engagement Plan for FY 2014, meet with members of EERE to discuss the status of the Lab Impact Initiative, explore opportunities to continue assisting with the QER process, discuss updates and provide recommendations on the Weatherization Assistance Program, receive updates from key members of EERE, and update members of the Board on routine business matters.

Public Participation: The meeting is open to the public. Written statements may be filed with the Board either before or after the meeting. Members of the public who wish to make oral statements pertaining to agenda items should contact Julie Hughes at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 90 days on the STEAB Web site, www.steab.org.

Issued at Washington, DC, on July 22, 2014.
LaTanya Butler,
Deputy Committee Management Officer.

[FR Doc. 2014-17727 Filed 7-25-14; 8:45 am]

BILLING CODE 6450-01-P